DEPARTMENT OF AGRICULTURE

Foreign Agricultural Service

Trade Adjustment Assistance for Farmers

AGENCY: Foreign Agricultural Service, USDA.

ACTION: Notice.

On March 22, 2007, the Administrator, Foreign Agricultural Service (FAS), denied a petition for trade adjustment assistance (TAA) that was filed on February 16, 2007, by the National Grape Cooperative Association, representing New York, Pennsylvania, and Ohio Concord juice grape producers.

SUPPLEMENTARY INFORMATION: Upon investigation, the Administrator determined that imports of grape juice and must, unfermented, not concentrated, from Canada did not contribute importantly to a decline in producer price. Therefore, the Concord juice grape petition did not meet the statutory requirement that imports contributed importantly to a decline in producer price.

FOR FURTHER INFORMATION, CONTACT: Jean-Louis Pajot, Coordinator, Trade Adjustment Assistance for Farmers, FAS, USDA, (202) 720-2916, e-mail: trade.adjustment@fas.usda.gov.

Dated: March 23, 2007.
W. Kirk Miller,
Administrator, Foreign Agricultural Service.

[FR Doc. E7-6471 Filed 4-5-07; 8:45 am]

BILLING CODE 3410-10-P